DEPARTMENT OF TRANSPORTATION

Federal Aviation Administration

14 CFR Part 71

[Airspace Docket No. 00-ACE-9]

Amendment to Class E Airspace; Orange City, IA; Confirmation of Effective Date and Correction

AGENCY: Federal Aviation Administration, DOT.

ACTION: Direct final rule; confirmation of effective date and correction.

SUMMARY: This document confirms the effective date of a direct final rule which revises the Class E airspace at Orange City, IA, and corrects an error in the airspace designation for Orange City Municipal Airport as published in the Federal Register April 18, 2000 (65 FR 20723), Airspace Docket No. 00-ACE-9.

DATES: The direct final rule published at 65 FR 20723 is effective on 0901 UTC, August 10, 2000. This correction is effective on August 10, 2000.

FOR FURTHER INFORMATION CONTACT: Kathy Randolph, Air Traffic Division, Airspace Branch, ACE-520C, DOT Regional Headquarters Building, Federal Aviation Administration, 901 Locust, Kansas City, MO 64106; telephone: (816) 329-2525.

SUPPLEMENTARY INFORMATION:

History

On April 18, 2000, the FAA published in the Federal Register a direct final rule; request for comments which revises the Class E airspace at Orange City, IA (FR Doc. 00-9548, 65 FR 20723, Airspace Docket No. 00-ACE-9). An error was subsequently discovered in the airspace designation for Orange City Municipal Airport. This action corrects that error. After careful review of all available information related to the subject presented above, the FAA has determined that air safety and the public interest require adoption of the rule. The FAA has determined that this correction will not change the meaning of the action nor add any additional burden on the public beyond that already published. This action corrects the error in the airspace designation and confirms the effective date to the direct final rule.

The FAA uses the direct final rulemaking procedure for a non-controversial rule where the FAA believes that there will be no adverse public comment. This direct final rule advised the public that no adverse comments were anticipated, and that unless a written adverse comment, or a written notice of intent to submit such an adverse comment, were received within the comment period, the regulation would become effective on August 10, 2000. No adverse comments were received, and thus this notice confirms that this direct final rule will become effective on that date.

Correction to the Direct Final Rule

Accordingly, pursuant to the authority delegated to me, the airspace designation for Orange County Airport, as published in the Federal Register on April 18, 2000 (65 FR 20723), FR Doc. 00-9548 is corrected as follows:

§ 71.1 [Corrected]

ACE IA E5 Orange City, IA [Corrected]

1. On page 20724, in the second column, line 10 of the airspace designations, correct “north” to read “south”.

Issued in Kansas City, MO on May 24, 2000.
Herman J. Lyons, Jr.,
Manager, Air Traffic Division, Central Region.

[FR Doc. 00-14047 Filed 6-8-00; 8:45 am]

BILLING CODE 4910-13-M